DEPARTMENT OF TRANSPORTATION

Federal Aviation Administration

14 CFR Part 39

[Docket No. FAA-2014-0306; Directorate Identifier 2013-SW-046-AD; Amendment 39-17850; AD 2014-10-03]

RIN 2120-AA64

Airworthiness Directives; Airbus Helicopters (Type Certificate Previously Held By Eurocopter France) Helicopters

AGENCY: Federal Aviation Administration (FAA), Department of Transportation (DOT).

ACTION: Final rule; request for comments.

SUMMARY: We are adopting a new airworthiness directive (AD) for certain Airbus Helicopters Model AS332L1 and Model EC225LP helicopters. This AD requires relocating the power supply circuit breaker source of one engine's multi-purpose air intake (MPAI). This AD is prompted by a report that power loss to the MPAI could open the engine air intakes, which could result in engine ice ingestion during flight in icing conditions. These actions are intended to prevent ice ingestion by both engines, which could result in complete loss of engine thrust, and possible loss of control of the helicopter.

DATES: This AD becomes effective June 11, 2014.

The Director of the Federal Register approved the incorporation by reference of certain documents listed in this AD as of June 11, 2014.

We must receive comments on this AD by July 28, 2014.

ADDRESSES: You may send comments by any of the following methods:

• Federal eRulemaking Docket: Go to http://www.regulations.gov. Follow the online instructions for sending your comments electronically.

• Fax: 202-493-2251.

• Mail: Send comments to the U.S. Department of Transportation, Docket Operations, M-30, West Building Ground Floor, Room W12-140, 1200 New Jersey Avenue SE., Washington, DC 20590-0001.

• Hand Delivery: Deliver to the “Mail” address between 9 a.m. and 5 p.m., Monday through Friday, except Federal holidays.

Examining the AD Docket

You may examine the AD docket on the Internet at http://www.regulations.gov or in person at the Docket Operations Office between 9 a.m. and 5 p.m., Monday through Friday, except Federal holidays. The AD docket contains this AD, the European Aviation Safety Agency (EASA) AD, any incorporated by reference service information, any comments received, and other information. The street address for the Docket Operations Office (telephone 800-647-5527) is in the ADDRESSES section. Comments will be available in the AD docket shortly after receipt.

For service information identified in this AD, contact Airbus Helicopters, Inc., 2701 N. Forum Drive, Grand Prairie, TX 75052; telephone (972) 641-0000 or (800) 232-0323; fax (972) 641-3775; or at http://www.airbushelicopters.com/techpub. You may review the referenced service information at the FAA, Office of the Regional Counsel, Southwest Region, 2601 Meacham Blvd., Room 663, Fort Worth, Texas 76137.

FOR FURTHER INFORMATION CONTACT: George Schwab, Aviation Safety Engineer, Safety Management Group, Rotorcraft Directorate, FAA, 2601 Meacham Blvd., Fort Worth, Texas 76137; telephone (817) 222-5110; email george.schwab@faa.gov.

SUPPLEMENTARY INFORMATION:

Comments Invited

This AD is a final rule that involves requirements affecting flight safety, and we did not provide you with notice and an opportunity to provide your comments prior to it becoming effective. However, we invite you to participate in this rulemaking by submitting written comments, data, or views. We also invite comments relating to the economic, environmental, energy, or federalism impacts that resulted from adopting this AD. The most helpful comments reference a specific portion of the AD, explain the reason for any recommended change, and include supporting data. To ensure the docket does not contain duplicate comments, commenters should send only one copy of written comments, or if comments are filed electronically, commenters should submit them only one time. We will file in the docket all comments that we receive, as well as a report summarizing each substantive public contact with FAA personnel concerning this rulemaking during the comment period. We will consider all the comments we receive and may conduct additional rulemaking based on those comments.

Discussion

EASA, which is the Technical Agent for the Member States of the European Union, has issued EASA AD No. 2013-0173, dated August 1, 2013, to correct an unsafe condition for certain serial-numbered Eurocopter France (now Airbus Helicopters) Model AS 332 L1 and Model EC 225 LP helicopters. EASA advises that after a power generation failure, some helicopters equipped with electrical MPAIs would lose electrical power to the engine electro-valves that control inflation of the MPAI seals that close the engine air intakes. This power supply loss results in deflation or non-inflation of the MPAI seals on both engine air intakes. During flight in icing conditions, this condition could result in ice ingestion by the engines and a dual engine flame-out. To correct this unsafe condition, EASA AD No. 2013-0173 requires accomplishing Eurocopter modification (MOD) 332P083736.05 for Model AS 332 L1 helicopters, and MOD 332P083736.01 or MOD 332P083736.02, depending on the helicopter serial number, for Model EC225 LP helicopters. These MODs describe procedures for relocating the power supply circuit breaker of one engine's MPAI to an electrical bus that cannot be shut off in the event of battery powered emergency flight.

FAA's Determination

These helicopters have been approved by the aviation authority of France and are approved for operation in the United States. Pursuant to our bilateral agreement with France, EASA, its technical representative, has notified us of the unsafe condition described in the EASA AD. We are issuing this AD because we evaluated all information provided by EASA and determined the unsafe condition exists and is likely to exist or develop on other helicopters of these same type designs.

Related Service Information

Eurocopter issued Alert Service Bulletin (ASB) No. AS332-30.00.74 for Model AS332L1 helicopters and ASB No. EC225-30A032 for Model EC225LP helicopters, both Revision 0 and dated July 31, 2013. ASB AS332-30.00.74 contains the procedures for Eurocopter MOD 332P083736.05, and ASB EC225-30A032 contains the procedures for Eurocopter MOD 332P083736.01 and MOD 332P083736.02. Each ASB specifies relocating one of the two electric MPAI power supply circuit breakers to a bus bar that cannot lose power during emergency flight under battery power only.

AD Requirements

Before flying into known icing conditions, this AD requires complying with the manufacturer's service information to relocate an engine MPAI power supply circuit breaker. This AD also requires performing a functional test of each MPAI after relocating the MPAI power supply circuit breaker.

Differences Between This AD and the EASA AD

The EASA AD requires compliance within 110 flight hours. This AD requires compliance before any flight into known icing conditions, as the unsafe condition does not exist unless icing conditions are encountered concurrently with a dual generator or dual transformer-rectifier unit failure.

Costs of Compliance

There are no costs of compliance with this AD because there are no helicopters affected by this AD on the U.S. Registry.

FAA's Justification and Determination of the Effective Date

There are no helicopters affected by this AD on the U.S. Registry. Therefore, we believe it is unlikely that we will receive any adverse comments or useful information about this AD from U.S. Operators.

Since an unsafe condition exists that requires the immediate adoption of this AD, we determined that notice and opportunity for public comment before issuing this AD are unnecessary because there are none of these products on the U.S. Registry and that good cause exists for making this amendment effective in less than 30 days.

Authority for This Rulemaking

Title 49 of the United States Code specifies the FAA's authority to issue rules on aviation safety. Subtitle I, section 106, describes the authority of the FAA Administrator. “Subtitle VII: Aviation Programs,” describes in more detail the scope of the Agency's authority.

We are issuing this rulemaking under the authority described in “Subtitle VII, Part A, Subpart III, Section 44701: General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We determined that this AD will not have federalism implications under Executive Order 13132. This AD will not have a substantial direct effect on the States, on the relationship between the national Government and the States, or on the distribution of power and responsibilities among the various levels of government.

For the reasons discussed, I certify that this AD:

1. Is not a “significant regulatory action” under Executive Order 12866;

2. Is not a “significant rule” under DOT Regulatory Policies and Procedures (44 FR 11034, February 26, 1979);

3. Will not affect intrastate aviation in Alaska to the extent that it justifies making a regulatory distinction; and

4. Will not have a significant economic impact, positive or negative, on a substantial number of small entities under the criteria of the Regulatory Flexibility Act.

List of Subjects in 14 CFR Part 39

Air transportation, Aircraft, Aviation safety, Incorporation by reference, Safety.

Adoption of the Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new airworthiness directive (AD):

2014-10-03 Airbus Helicopters (Type Certificate previously held by Eurocopter France): Amendment 39-17850; Docket No. FAA-2014-0306; Directorate Identifier 2013-SW-046-AD.

(a) Applicability

This AD applies to Model AS332L1 helicopters, serial number (S/N) 2774, and Model EC225LP helicopters, S/N 2600, 2623, 2645, 2656, 2659, 2663, 2666, 2670, 2673, 2685, 2691, 2692, 2693, 2702, 2715, 2716, 2721, 2725, 2739, 2744, 2747, 2753, 2756, 2759, 2767, 2779, and 2794, certificated in any category.

(b) Unsafe Condition

This AD defines the unsafe condition as engine ice ingestion during flight, which could result in complete loss of engine thrust and possible loss of control of the helicopter.

(c) Effective Date

This AD becomes effective June 11, 2014.

(d) Compliance

You are responsible for performing each action required by this AD within the specified compliance time unless it has already been accomplished prior to that time.

(e) Required Actions

Before flight into known icing conditions:

(1) For Model AS332L1 helicopter, S/N 2774, relocate the engine 1 Multi-Purpose Air Intake (MPAI) power supply circuit breaker as described in the Accomplishment Instructions, paragraph 3.B.2., and Figures 1, 2, and 3 of Eurocopter Alert Service Bulletin (ASB) No. AS332-30.00.74, Revision 0, dated July 31, 2013.

(2) For Model EC225LP helicopters, S/N 2600, 2623, 2645, 2656, 2659, 2663, 2666, 2670, 2673, and 2693, relocate the engine 2 MPAI power supply circuit breaker as described in the Accomplishment Instructions, paragraph 3.B.2.a., and Figures 1 and 2 of Eurocopter ASB No. EC225-30A032, Revision 0, dated July 31, 2013.

(3) For Model EC225LP helicopters, S/N 2685, 2691, 2692, 2702, 2715, 2716, 2721, 2725, 2739, 2744, 2747, 2753, 2756, 2759, 2767, 2779, and 2794, relocate the engine 2 MPAI power supply circuit breaker as described in the Accomplishment Instructions, paragraph 3.B.2.b., and Figures 1 and 3 of Eurocopter ASB No. EC225-30A032.

(4) For all model helicopters, perform a functional test of each MPAI after relocating the MPAI power supply circuit breaker.

(f) Special Flight Permits

Special flight permits are prohibited for flights into known icing conditions.

(g) Alternative Methods of Compliance (AMOCs)

(1) The Manager, Safety Management Group, FAA, may approve AMOCs for this AD. Send your proposal to: George Schwab, Aviation Safety Engineer, Safety Management Group, Rotorcraft Directorate, FAA, 2601 Meacham Blvd., Fort Worth, Texas 76137; telephone (817) 222-5110; email george.schwab@faa.gov.

(2) For operations conducted under a 14 CFR part 119 operating certificate or under 14 CFR part 91, subpart K, we suggest that you notify your principal inspector, or lacking a principal inspector, the manager of the local flight standards district office or certificate holding district office, before operating any aircraft complying with this AD through an AMOC.

(h) Additional Information

The subject of this AD is addressed in European Aviation Safety Agency (EASA) AD No. 2013-0173, dated August 1, 2013. You may view the EASA AD on the internet at http://www.regulations.gov in Docket No. FAA-2014-0306.

(i) Subject

Joint Aircraft Service Component (JASC) Code: 3097: Ice/Rain Protection System Wiring.

(j) Material Incorporated by Reference

(1) The Director of the Federal Register approved the incorporation by reference (IBR) of the service information listed in this paragraph under 5 U.S.C. 552(a) and 1 CFR part 51.

(2) You must use this service information as applicable to do the actions required by this AD, unless the AD specifies otherwise.

(i) Eurocopter Alert Service Bulletin No. AS332-30.00.74, Revision 0, dated July 31, 2013.

(ii) Eurocopter Alert Service Bulletin No. EC225-30A032, Revision 0, dated July 31, 2013.

(3) For Eurocopter service information identified in this AD, contact Airbus Helicopters, Inc., 2701 N. Forum Drive, Grand Prairie, TX 75052; telephone (972) 641-0000 or (800) 232-0323; fax (972) 641-3775; or at http://www.airbushelicopters.com/techpub.

(4) You may view this service information at FAA, Office of the Regional Counsel, Southwest Region, 2601 Meacham Blvd., Room 663, Fort Worth, Texas 76137. For information on the availability of this material at the FAA, call (817) 222-5110.

(5) You may view this service information that is incorporated by reference at the National Archives and Records Administration (NARA). For information on the availability of this material at NARA, call (202) 741-6030, or go to: http://www.archives.gov/federal-register/cfr/ibr-locations.html.

Issued in Fort Worth, Texas, on May 6, 2014.
Kim Smith,
Directorate Manager, Rotorcraft Directorate, Aircraft Certification Service.

[FR Doc. 2014-11528 Filed 5-23-14; 8:45 am]

BILLING CODE 4910-13-P